ENVIRONMENTAL PROTECTION AGENCY

40 CFR Part 61

[FRL-6855-3]

RIN 2060-AI90

National Emission Standards for Hazardous Air Pollutants; Standard for Emissions of Radionuclides Other Than Radon From Department of Energy Facilities; Standard for Radionuclide Emissions From Federal Facilities Other Than Nuclear Regulatory Commission Licensees and Not Covered by Subpart H

AGENCY: Environmental Protection Agency (EPA).

ACTION: Notice of proposed rulemaking; reopening of public comment period.

SUMMARY: The Environmental Protection Agency (EPA), Office of Radiation and Indoor Air, Radiation Protection Division, Center for Waste Management is extending the comment period on the proposed rule to amend 40 CFR part 61, subpart H as it applies to operations at any facility owned or operated by the Department of Energy (DOE) that emits any radionuclide other than radon-222 and radon-220 into the air and subpart I as it applies to non-DOE federal facilities in the radionuclide National Emission Standards Hazardous Air Pollutants (NESHAPs) (65 FR 29934, May 9, 2000). A public hearing was held on Wednesday, July 12, 2000, from 9:00 am to 12:00 pm. The comment period for this hearing was to end on August 14, 2000. This comment period is extended to October 6, 2000.

DATES: EPA will continue to accept public comments on this proposed rule until October 6, 2000.

ADDRESSES: Comments must be submitted, in duplicate, to: Central Docket (6102), Attn: Docket No. A-94-60, U.S. Environmental Protection Agency, 401 M Street, SW, Room M1500, Washington, DC 20460. The docket is available for public inspection between the hours of 8:00 am and 5:00 pm, Monday thru Friday, in Room M1500 of Waterside Mall at the above address. A reasonable fee may charged for copying.

FOR FURTHER INFORMATION CONTACT: Eleanor Thornton-Jones, Center for Waste Management, Office of Radiation and Indoor Air, U.S. Environmental Protection Agency, Mailstop 6608J, Ariel Rios Building, 1200 Pennsylvania Avenue, NW, Washington, DC 20460, by email: thornton.eleanord@epa.gov or by phone (202) 564-9773. Comments can also be faxed to Ms. Thornton-Jones at (202) 565-2065.

SUPPLEMENTARY INFORMATION On May 9, 2000 (65 FR 29934) EPA proposed to amend 40 CFR part 61, subpart H (subpart H) as it applies to operations at any facility owned or operated by the Department of Energy (DOE) that emits any radionuclide other than radon-222 and radon-220 into the air and subpart I as it applies to non-DOE federal facilities in the radionuclide National Emission Standards Hazardous Air Pollutants (NESHAPs). Subparts H and I require emission sampling, monitoring and calculations to identify compliance with the standard. To sample and monitor these radionuclide air emissions, subpart H in § 61.93(b)(2)(ii), and subpart I in § 61.107(b)(2)(ii), both require radionuclide emissions from point sources to be measured in accordance with the guidance presented in the American National Standard Guide to Sampling Airborne Radioactive Materials in Nuclear Facilities, ANSI N13.1-1969. In 1999, this ANSI standard was revised and replaced by the new ANSI N13.1-1999 standard, entitled “Sampling and Monitoring Releases of Airborne Radioactive Substances from the Stacks and Ducts of Nuclear Facilities.” This proposed amendment was to amend subpart H and subpart I to incorporate the new ANSI N13.1-1999 standard.

On July 12, 2000, a public hearing was held on the proposed rule to amend 40 CFR part 61, subpart H and subpart I. At the time of the hearing, EPA verbally gave an extension for the public to submit comments until August 14, 2000. EPA received a request to extend the comment period from August 14 to August 21, 2000 from the ANSI N13.1 NESHAPS Comment Group. After considering this request, EPA has decided to extend the comment period an additional 45 days for this proposal. Comments should be submitted on or before October 6, 2000.

Dated: August 15, 2000.
Mary T. Smith,
Acting Director, Office of Radiation and Indoor Air, Air and Radiation.

[FR Doc. 00-21198 Filed 8-18-00; 8:45 am]

BILLING CODE 6560-50-P